DEPARTMENT OF DEFENSE

Office of the Secretary

Department of Defense Military Family Readiness Council; Notice of Federal Advisory Committee Meeting

AGENCY: Under Secretary of Defense for Personnel and Readiness (USD(P&R)), Department of Defense (DoD).

ACTION: Notice of Federal advisory committee meeting.

SUMMARY: The DoD is publishing this notice to announce the following Federal Advisory Committee meeting of the DoD Military Family Readiness Council (MFRC) will take place.

DATES: Open to the public, Monday, June 17, 2024 from 1:00 p.m. to 3:30 p.m.

ADDRESSES: The meeting will be held by videoconference. Participant access information will be provided after registering. (Pre-meeting registration is required. See guidance in SUPPLEMENTARY INFORMATION, “Meeting Accessibility”).

FOR FURTHER INFORMATION CONTACT: Vesen L. Thompson, (703) 571-2360 (voice), OSD Pentagon OUSD P-R Mailbox Family Readiness Council, osd.pentagon.ousd-p-r.mbx.family-readiness-council@mail.mil (Email). Mailing address: Office of the Deputy Assistant Secretary of Defense (Military Community & Family Policy), 1500 Defense Pentagon, Washington, DC 20301-1500, Room 5A726. Website: http://www.militaryonesource.mil/those-who-support-mfrc.

SUPPLEMENTARY INFORMATION: Due to circumstances beyond the control of the Department of Defense and the Designated Federal Officer (DFO), the Department of Defense Military Family Readiness Council was unable to provide public notification required by 41 CFR 102-3.150(a) concerning its June 17, 2024 meeting. Accordingly, the Advisory Committee Management Officer for the Department of Defense, pursuant to 41 CFR 102-3.150(b), waives the 15-calendar day notification requirement.

This meeting is being held under the provisions of chapter 10 of title 5, United States Code (U.S.C.) (commonly known as the “Federal Advisory Committee Act” or “FACA”), 5 U.S.C. 552b (commonly known as the “Government in the Sunshine Act”), and 41 CFR 102-3.140 and 102-3.155.

Availability of Materials for the Meeting: Additional information, including the agenda or any updates to the agenda, is available at the DoD MFRC website: https://www.militaryonesource.mil/mfrc.

Materials presented in the meeting may also be obtained on the DoD MFRC website.

Purpose of the Meeting: The purpose of the meeting is for the DoD MFRC to receive briefings and have discussions on topics related to Military Family Readiness Programs and Activities.

Agenda: Monday, June 17, 2024, from 1:00 p.m. to 3:30 p.m.—Welcome, Introductions, Announcements, Briefings on Changes to Healthcare Policy and Implication for Military Families.

Meeting Accessibility: Pursuant to 5 U.S.C. 552b and 41 CFR 102-3.140 through 102-3.165, this meeting is open to the public from 1:00 p.m. to 3:30 p.m. on June 17, 2024. The meeting will be held by videoconference. The number of participants is limited and is on a first-come basis. All members of the public who wish to participate must register by contacting DoD MFRC at (osd.pentagon.ousd-p-r.mbx.family-readiness-council@mail.mil) or by contacting Mr. Vesen Thompson at (703) 571-2360 (voice). Once registered, the web address and/or audio number will be provided.

Special Accommodations: Individuals requiring special accommodations to access the public meeting should contact Mr. Vesen Thompson so that appropriate arrangements can be made.

Written Statements: Pursuant to 41 CFR 102-3.140, and section 10(a)(3) of the FACA, interested persons may submit a written statement to the DoD MFRC; however, email submissions are preferred. Persons interested in providing a written statement for review and consideration by DoD MFRC members attending the June 17, 2024 meeting are encouraged to do so at osd.pentagon.ousd-p-r.mbx.family-readiness-council@mail.mil). Written statements received after this date will be provided to DoD MFRC members in preparation for the next MFRC meeting. The DFO will review all timely submissions and ensure submitted written statements are provided to DoD MFRC members prior to the meeting that is subject to this notice. The DFO will review all timely submissions with the DoD MFRC Chair and ensure they are provided to the members of the DoD MFRC. Those who make submissions are requested to avoid including personally identifiable information such as names of adults and children, phone numbers, addresses, Social Security Numbers and other contact information within the body of the written statement.

Dated: June 26, 2024.
Aaron T. Siegel,
Alternate OSD Federal Register Liaison Officer, Department of Defense.

[FR Doc. 2024-14544 Filed 7-1-24; 8:45 am]

BILLING CODE 6001-FR-P